Title 3—

The President

Memorandum of March 3, 2020

Delegation of Authority to Re-establish the Presidential Advisory Council on Combating Antibiotic-Resistant Bacteria

Memorandum for the Secretary of Health and Human Services

By the authority vested in me as President by the Constitution and the laws of the United States of America, including section 301 of title 3, United States Code, it is hereby ordered as follows:

Section 1. Delegation of Re-establishment Authority. The Secretary of Health and Human Services is delegated the authority under section 9(a)(1) of the Federal Advisory Committee Act, as amended (5 U.S.C. App.), to re-establish the Presidential Advisory Council on Combating Antibiotic-Resistant Bacteria (Council). In exercising this authority, the Secretary may direct the Council to perform duties consistent with those assigned to the Council in section 505(b) of Public Law 116-22, and may, at the Secretary's discretion, specify the membership of the Council, consistent with the requirements of the Federal Advisory Committee Act, as amended (5 U.S.C. App.).

Sec. 2. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) You are hereby authorized and directed to publish this memorandum in the Federal Register.

THE WHITE HOUSE,

Washington, March 3, 2020

[FR Doc. 2020-04809

Filed 3-5-20; 11:15 am]

Billing code 4150-42-P